ENVIRONMENTAL PROTECTION AGENCY

[FRL-9489-5]

Senior Executive Service Performance Review Board; Membership

AGENCY: Environmental Protection Agency.

ACTION: Notice.

SUMMARY: Notice is hereby given of the membership of the Environmental Protection Agency Performance Review Board for 2011.

FOR FURTHER INFORMATION CONTACT: Karen D. Higginbotham, Director, Executive Resources Division, 3606A, Office of Human Resources, Office of Administration and Resources Management, Environmental Protection Agency, 1200 Pennsylvania Avenue NW., Washington, DC 20460 (202) 564-7287.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the 2011 EPA Performance Review Board are:

William H. Benson, Director, Gulf Ecology Division, National Health and Environmental Effects Research Lab, Office of Research and Development.

Bruce Binder, Senior Associate Director for Grants Competition, Office of Grants and Debarment, Office of Administration and Resources Management.

David Bloom, Director, Office of Budget, Office of the Chief Financial Officer.

Barry N. Breen, Principal Deputy Assistant Administrator, Office of Solid Waste and Emergency Response.

Jeanette Brown, Director, Office of Small Business Programs, Office of the Administrator.

Rafael DeLeon (Ex-Officio), Director, Office of Civil Rights, Office of the Administrator.

Carl E. Edlund, Director, Multimedia Planning and Permitting Division, Region 6.

Robin Gonzalez, Director, Office of Information Analysis and Access, Office of Environmental Information.

Joan Harrigan-Farrelly, Director, Antimicrobials Division, Office of Chemical Safety and Pollution Prevention.

Karen D. Higginbotham (Ex-Officio), Director, Executive Resources Division, Office of Human Resources, Office of Administration and Resources Management.

Peter Jutro, Deputy Director for Policy, National Homeland Security Research Center, Office of Research and Development.

Ephraim King, Director, Office of Science and Technology, Office of Water.

Kimberly A. Lewis (Ex-Officio), Director, Office of Human Resources, Office of Administration and Resources Management.

Brenda Mallory, Principal Deputy General Counsel, Office of General Counsel.

Suzanne Murray, Regional Counsel, Region 6, Office of Enforcement and Compliance Assurance.

Denise B. Sirmons, Deputy Director, Office of Grants and Debarment, Office of Administration and Resources Management.

Cynthia Sonich-Mullin, Deputy Director, National Homeland Security Research Center—Cincinnati, Ohio, Office of Research and Development.

Michael M. Stahl, Deputy Assistant Administrator, Office of International and Tribal Affairs.

Panagiotis E. Tsirigotis, Director, Sector Policies and Programs Division—Research Triangle Park, Office of Air and Radiation.

Dated: November 4, 2011.
Craig E. Hooks,
Assistant Administrator, Administration and Resources Management.

[FR Doc. 2011-29185 Filed 11-9-11; 8:45 am]

BILLING CODE 6560-50-P